DEPARTMENT OF ENERGY

Federal Energy Regulatory Commission

Combined Notice of Filings # 1

November 22, 2006.

Take notice that the Commission received the following electric rate filings.

Docket Numbers: ER04-441-014; ER04-445-019; ER04-443-015; ER04-435-022.

Applicants: California Independent System Operator Corporation.

Description: California Independent System Operator Corporation submits its Substitute Second Revised Sheet 1077 to its FERC Electric Tariff, Third Replacement Volume 2.

Filed Date: 11/16/2006.

Accession Number: 20061121-0227.

Comment Date: 5 p.m. Eastern Time on Thursday, December 7, 2006.

Docket Numbers: ER06-192-002.

Applicants: Midwest Independent Transmission System Operator, Inc.

Description: Midwest Independent Transmission System Operator, Inc. submits an errata to its 10/25/06 filing of Order 2006 Amended Compliance filing.

Filed Date: 11/17/2006.

Accession Number: 20061121-0228.

Comment Date: 5 p.m. Eastern Time on Friday, December 8, 2006.

Docket Numbers: ER06-1118-003; ER99-4463-007; ER06-1291-001.

Applicants: NE Energy Management, LLC; NE Hydro Generating Company; Mt. Tom Generating Company LLC.

Description: NE Energy Management, LLC et al submits a notice in change in status re the market-based rate authority to each subsidiary.

Filed Date: 11/16/2006.

Accession Number: 20061121-0226.

Comment Date: 5 p.m. Eastern Time on Thursday, December 7, 2006.

Docket Numbers: ER07-131-001; ER07-132-001; ER07-133-001.

Applicants: CalPeak Power-El Cajon LLC; CalPeak Power-Border, LLC; CalPeak Power-Enterprise, LLC.

Description: CalPeak Power-El Cajon, LLC et al submit tariff sheets that correctly reflect a 2007 Contract Year re Must-Run Service Agreements with the California Independent System Operator Corporation.

Filed Date: 11/17/2006.

Accession Number: 20061121-0229.

Comment Date: 5 p.m. Eastern Time on Friday, December 8, 2006.

Docket Numbers: ER07-231-000.

Applicants: PJM Interconnection, LLC; New York Independent System Operator, Inc.; ISO New England Inc.

Description: PJM Interconnection, LLC et al submit Procedure to Protect for the Loss of Phase II Imports Report.

Filed Date: 11/16/2006.

Accession Number: 20061121-0230.

Comment Date: 5 p.m. Eastern Time on Thursday, December 7, 2006.

Docket Numbers: ER07-232-000.

Applicants: Aragonne Wind LLC.

Description: Aragonne Wind LLC submits an Application for Order accepting Market-based Rate Tariff, Granting Authorizations and Blanket Authority and Waiving Certain Requirements.

Filed Date: 11/17/2006.

Accession Number: 20061121-0225.

Comment Date: 5 p.m. Eastern Time on Friday, December 8, 2006.

Docket Numbers: ER07-233-000.

Applicants: Occidental Power Services, Inc.

Description: Occidental Power Services, Inc submits revised sheets of its Rate Schedule No. 1.

Filed Date: 11/17/2006.

Accession Number: 20061121-0272.

Comment Date: 5 p.m. Eastern Time on Friday, December 8, 2006.

Docket Numbers: ER07-234-000.

Applicants: American Transmission Company LLC

Description: American Transmission Company, LLC submits an executed Distribution-Transmission Interconnection Agreement with Evansville Water & Light.

Filed Date: 11/17/2006.

Accession Number: 20061121-0270.

Comment Date: 5 p.m. Eastern Time on Friday, December 8, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-20263 Filed 11-29-06; 8:45 am]

BILLING CODE 6717-01-P